SMALL BUSINESS ADMINISTRATION

13 CFR Parts 107 and 121

RIN 3245-AH90

Small Business Investment Company Investment Diversification and Growth; Technical Amendments and Clarifications; Correction

AGENCY: U.S. Small Business Administration.

ACTION: Direct final rule; correction.

SUMMARY: The Small Business Administration (SBA) is correcting a rule that appeared in the Federal Register on January 19, 2024. This correction fixes an error in an instruction.

DATES: This correction is effective March 4, 2024.

FOR FURTHER INFORMATION CONTACT:

Policy: Bailey G. DeVries, Associate Administrator of the Office of Investment and Innovation, Small Business Administration, oii.frontoffice@sba.gov, 202-941-6064. This phone number can also be reached by individuals who are deaf or hard of hearing, or who have speech disabilities, through the Federal Communications Commission's TTY-Based Telecommunications Relay Service teletype service at 711.

Regulatory Comments/Federal Register Docket: Nathan Putnam, Office of Investment and Innovation, Small Business Administration, oii.frontoffice@sba.gov, 202-699-1746. This phone number can also be reached by individuals who are deaf or hard of hearing, or who have speech disabilities, through the Federal Communications Commission's TTY-Based Telecommunications Relay Service teletype service at 711.

SUPPLEMENTARY INFORMATION: In FR Doc. 2024-00559 appearing on page 3542 in the Federal Register on Friday January 19, 2024, the following correction is made:

§ 107.150 [Corrected]

1. On page 3547, in the second column, in instruction 3, the instruction “Amend § 107.150 by revising paragraph (b)(2) to read as follows:” is corrected to read “Amend § 107.150 by revising paragraph (b)(2) introductory text to read as follows:”.

Bailey DeVries,
Associate Administrator, Office of Investment and Innovation.

[FR Doc. 2024-01629 Filed 1-26-24; 8:45 am]

BILLING CODE 8026-09-P